OFFICE OF THE UNITED STATES TRADE REPRESENTATIVE

Notice of Meeting of the Industry Sector Advisory Committee on Small and Minority Business (ISAC-14)

AGENCY: Office of the United States Trade Representative.

ACTION: Notice of meeting.

SUMMARY: The Industry Sector Advisory Committee on Small and Minority Business (ISAC-14) will hold a meeting on May 9, 2001, from 3 p.m. to 4:30 p.m. The meeting will be opened to the public from 3 p.m. to 4:30 p.m.

DATES: The meeting is scheduled for May 9, 2001, unless otherwise notified.

ADDRESSES: The meeting will be held at the USA Trade Center/Ronald Reagan Building, Training Room B located at 14th and Constitution Avenue, NW., Washington, DC.

FOR FURTHER INFORMATION CONTACT: Millie Sjoberg and Pam Wilbur (202) 482-4792, Department of Commerce, 14th Street and Constitution Avenue, NW., Washington, DC 20230 (principal contact), or myself on (202) 395-6120.

SUPPLEMENTARY INFORMATION: During the meeting the agenda topics to be addressed will be the trip to the OECD Montreal Meeting in June and the vote on the transition papers.

Christina Sevilla,
Acting Assistant United States Trade Representative for Intergovernmental Affairs and Public Liaison.

[FR Doc. 01-10532 Filed 4-26-01; 8:45 am]

BILLING CODE 3190-01-M